ENVIRONMENTAL PROTECTION AGENCY

[ER-FRL-6664-2]

Environmental Impacts Statements; Notice of Availability

Responsible Agency: Office of Federal Activities, General Information (202) 564-7167 or http://www.epa.gov/compliance/nepa/.

Weekly receipt of Environmental Impact Statements.

Filed 05/30/2005 Through 06/03/2005.

Pursuant to 40 CFR 1506.9.

EIS No. 20050218, Final EIS, NPS, OR, Crater Lake National Park General Management Plan, Implementation, Klamath, Jackson and Douglas Counties, OR, Wait Period Ends: 07/05/2005, Contact: Terry Urbanowski 303-969-2277

EIS No. 20050219, Final EIS, BLM, 00,California Coastal National Monument Resource Management Plan, To Protect Important Biological and Geological Values: Islands, Rocks, Exposed Reefs, and Pinnacles above Mean High Tide, CA, OR and Mexico, Wait Period Ends: 07/11/2005, Contact: Brenda Williams 202-452-5112.

EIS No. 20050220, Draft EIS, FHW, WA, Interstate 90 Snoqualmie Pass East Project, Proposes to Improve a 15-mile Portion of I-90 from Milepost 55.10 in Hyak to Milepost 70.3 New Easton, Funding, U.S. Army COE Section 404 Permit and NPDES Permit, Kittitas County, WA, Comment Period Ends: 08/05/2005, Contact: Steve Saxton 360-753-9556 This document is available on the Internet at: http://www.wsdot.wa.gov/projects/I90/SomqualmiePassEast/.

EIS No. 20050221, Draft EIS, FHW, VA, Southeastern Parkway and Greenbelt Location Study, Construction from Chesapeake and Virginia Beach, Funding and U.S. Army COE Section 404 Permit, Cities of Chesapeake and Virginia Beach, VA, Comment Period Ends: 07/25/2005, Contact: Ken Myers 804-775-3353.

EIS No. 20050222, Draft EIS, FAA, AZ, Phoenix Sky Harbor International Airport (PHX), Construction and Operation of a Terminal, Airfield and Surface Transportation, City of Phoenix, Maricopa County, AZ, Comment Period Ends: 07/26/2005, Contact: Jennifer Mendelsohn 310-725-3637

EIS No. 20050223, Final EIS, FHW, UT,11400 South Project, Proposed Improvement to the Transportation Network in the Southern Salt Lake Valley from 12300/12600 South to 10400/10600 South, and from Bangerter Highway to 700 East, Salt Lake City, Salt Lake County, UT, wait period ends: 07/11/2005 Contact: Jeff Berna 801-963-0078 ext 235.

EIS No. 20050224, Final Supplement, FHW, NY,NY-9A Reconstruction Project, West Thames Street to Chambers Street in Lower Manhattan the Result of September 11, 2001 Attack, Lower Manhattan Redevelopment, New York County, NY, Wait Period Ends: 07/11/2005, Contact: Richard Schmalz 212-267-4113.

EIS No. 20050225, Final EIS, HUD, NY,Ridge Hill Village Project, Construction, Comprehensive Development Plan, (CDP), Planned Mixed-Use Developmental District (PMD), U.S. Army COE Section 404 Permit, City of Yonkers, Westchester County, NY, Wait Period Ends: 07/11/2005, Contact: Joan Deierlein 914-377-6015.

EIS No. 20050226, Draft EIS, FHW, RI,U.S. Route 6/Route 10 Interchange Improvement Project, To Identify Transportation Alternative, Funding, City of Providence, Providence County, RI, Comment Period Ends: 08/01/2005, Contact: Ralph Rizzo 401-528-4548.

EIS No. 20050227, Final EIS, COE, 00,Lower Snake River Navigation Maintenance, To Perform Routine Maintenance of the Federal Navigation Channel and Berthing Areas, Lower Snake and Clearwater Rivers, WA and ID, Wait Period Ends: 07/11/2005, Contact: Jack Sands 509-527-7287. This document is available on the Internet at: http://www.nww.usace.army.mil/channel/_maint/one-yeardefault.htm.

EIS No. 20050228, Draft EIS, FHW, VA, U.S. 460 Location Study Project, Transportation Improvements from I-295 in Prince George County to the Interchange of Route 460 and 58 along the Suffolk Bypass, Funding, U.S. Army COE Section 10 and 404 Permits, Prince George, Sussex, Surry, Southampton and Isle of Wight Counties, VA, Comment Period Ends: 07/25/2005, Contact: Ken Myers 804-775-3358

EIS No. 20050229, Draft EIS, AFS, OR,

Blue Mountain Land Exchange—Oregon Project, Proposed Exchange of Federal and Non-Federal Lands, Malheur, Umatilla, and Wallowa-Whitman National Forests, Baker, Grant, Morrow, Umatilla, Union and Wallowa Counties, OR, Comment Period Ends: 07/25/2005, Contact: Jean Lavell 541-523-1230.

EIS No. 20050230, Final EIS, FRC, 00,Golden Pass Liquefied Natural Gas (LNG) Import Terminal and Natural Gas Pipeline Facilities, Construction and Operation, Jefferson, Orange, Newton Counties, TX and Calcasieu Parish, LA, Wait Period Ends: 07/11/2005, Contact: Thomas Russo 1-866-208-3372.

Amended Notices

EIS No. 20050133, Draft EIS, AFS, OH, Wayne National Forest, Proposed Revised Land and Resource Management Plan, Implementation, Several Counties, OH, Due: 07/01/2005, Contact: Bob Gianniny 770-753-0101 Revision of FR Notice Published on 04/01/2005: CEQ Comment Period Ending on 6/30/2005 has been Extended to 07/01/2005.

EIS No. 20050176, Draft EIS, FAA, AK, Juneau International Airport, Proposed Development Activities to Enhance Operations Safety, Facilitate Aircraft Alignment, US Army COE Section 404 Permit, City and Borough of Juneau, AK, Comment Period Ends: 06/30/2005, Contact: Patti Sullivan 907-271-5454 Revision of FR Notice Published on 05/06/2005: Correction to Review Period Ending 06/20/2005 to 06/30/2005.

EIS No. 20050202, Draft EIS, CGD, 00, Programmatic—Vessel and Facility Response Plans for Oil: 2003 Removal Equipment Requirements and Alternative Technology Revisions, To Increase the Oil Removal Capability, U.S. Exclusive Economic Zone (EEZ), United States, Alaska, Guam, Puerto Pico and other U.S. Territories, Comment Period Ends: 08/01/2005, Contact: Brad McKitrick 202-267-0995 Revision of FR Notice Published on 05/27/2005: Correction to CEQ Comment Period Ending 07/26 /2005 has been Extended to 08/01/2005.

EIS No. 20050209, Draft EIS, NPS, WY, Grand Teton National Park Transportation Plan, Implementation, Grand Teton National Park, Teton County, WY, Comment Period Ends: 08/01/2005, Contact: Adrienne Anderson 303-987-6730 Revision of FR Notice Published on 06/03/2005: Correction to Comment Period Ending 07/18/2005 to 08/01/2005.

Dated: June 7, 2005.
Ken Mittelholtz,
Environmental Protection Specialist, Office of Federal Activities.

[FR Doc. 05-11557 Filed 6-9-05; 8:45 am]

BILLING CODE 6560-50-P